DEPARTMENT OF ENERGY

Request for Information (RFI): Review of Draft Version of DOE Energy-Water Nexus State Policy Database; Withdrawal

AGENCY: Office of Energy Policy and Systems Analysis, Department of Energy.

ACTION: Notice of request for information (RFI); withdrawal.

SUMMARY: The U.S. Department of Energy (DOE) is withdrawing its RFI entitled, “Review of Draft Version of DOE Energy-Water Nexus State Policy Database,” published in the Federal Register on Monday, June 5, 2017. This RFI sought review and feedback from stakeholders on the draft version of the DOE Energy—Water Nexus State Policy Database, developed by DOE's Office of Energy Policy and Systems Analysis (DOE—EPSA). DOE is further reviewing the draft version of the database before determining whether to reissue the RFI seeking public input.

DATES: The notice published at 82 FR 25783 on June 5, 2017, is withdrawn as of June 9, 2017.

FOR FURTHER INFORMATION CONTACT: Samuel Bockenhauer, U.S. Department of Energy, Office of Energy Policy and Systems Analysis, 1000 Independence Avenue SW., Washington, DC 20585. Email: samuel.bockenhauer@hq.doe.gov. Phone: (202) 586-9016.

Issued in Washington, DC on June 6, 2017.
Kyle Yunaska,
Special Advisor, Office of Energy Policy and Systems Analysis.

[FR Doc. 2017-12092 Filed 6-7-17; 4:15 pm]

BILLING CODE 6450-01-P